DEPARTMENT OF HEALTH AND HUMAN SERVICES

Centers for Disease Control and Prevention

Rescission of the Requirements for Negative Pre-Departure COVID-19 Test Result or Documentation of Recovery From COVID-19 for Aircraft Passengers Traveling to the United States From the People's Republic of China

AGENCY: Centers for Disease Control and Prevention (CDC), Department of Health and Human Services (HHS).

ACTION: Notice.

SUMMARY: The Centers for Disease Control and Prevention (CDC), within the Department of Health and Human Services (HHS), announces the rescission of the Order requiring negative pre-departure COVID-19 test result or documentation of recovery from COVID-19 for aircraft passengers traveling to the United States from the People's Republic of China, including the Special Administrative Regions of Hong Kong and Macau.

DATES: This Order was effective March 10, 2023.

FOR FURTHER INFORMATION CONTACT: Candice Swartwood, Division of Global Migration and Quarantine, Centers for Disease Control and Prevention, 1600 Clifton Road NE, MS H16-4, Atlanta, GA 30329. Telephone: 404-639-8897; Email: dgmqpolicyoffice@cdc.gov.

SUPPLEMENTARY INFORMATION: On December 30, 2022, CDC issued an Order titled, “Requirements for Negative Pre-Departure COVID-19 Test Results or Documentation of Recovery from COVID-19 for Aircraft Passengers Traveling to the United States From the People's Republic of China” (88 FR 864). Beginning on January 5, 2023, all air passengers 2 years of age and older traveling to the United States from China, Hong Kong, or Macau have been required to get a COVID-19 viral test no more than 2 days before their flight and show their negative result or show proof of documentation of having recovered from COVID-19 in the past 90 days, to the airline before boarding the aircraft. The requirement also applied to passengers who have been in China, Hong Kong, or Macau in the past 10 days and are traveling to the United States from one of the following airports: Incheon International Airport (ICN) in Seoul, South Korea; Toronto Pearson International Airport (YYZ) in Canada; and Vancouver International Airport (YVR) in Canada (referred to as Designated Airports).

The Order was issued as a public health measure to protect U.S. citizens and communities as the United States worked to both identify the size of the surge and gain better insights into the COVID-19 variants that were circulating.

This Order rescinds the requirement for negative pre-departure COVID-19 test results or documentation of recovery from COVID-19 for aircraft passengers traveling to the United States from the People's Republic of China, that went into effect on January 5, 2023.

A copy of the Order is provided below, and a copy of the signed Order can be found at Order: Requirements for Negative Pre-Departure COVID-19 Test Result or Documentation of Recovery from COVID-19 for Aircraft Passengers Traveling to the United States from the People's Republic of China | Quarantine | CDC.

Centers for Disease Control and Prevention (CDC) Department of Health and Human Services (HHS) Notice and Order Under Section 361 of the Public Health Service Act (42 U.S.C. 264) and 42 Code of Federal Regulations 71.20 & 71.31(b)

Rescission of the Requirements for Negative Pre-departure COVID-19 Test Result or Documentation of Recovery From COVID-19 for Aircraft Passengers Traveling to the United States From the People's Republic of China (PRC)

Summary and Action

On December 30, 2022, the Centers for Disease Control and Prevention (CDC), located within the U.S. Department of Health and Human Services (HHS), issued an Order (Order) under 42 CFR 71.20 and 71.31(b) to prohibit the boarding of passengers 2 years of age or older on an itinerary that included the United States on:

• any aircraft departing from the PRC, including the Special Administrative Regions of Hong Kong and Macau; or

• any aircraft departing from a Designated Airport if the passenger had been in the PRC within the ten (10) days prior to their departure for the United States,

unless the passenger presented paper or digital documentation of a negative result for a COVID-19 viral test taken no more than 2 calendar days before the departure of the flight or Documentation of Recovery from COVID-19. Designated Airports included Incheon International Airport (ICN) in Seoul, Republic of Korea; Toronto Pearson International Airport (YYZ) in Canada; and Vancouver International Airport (YVR) in Canada.

The Order was issued in response to concerns that COVID-19 cases were surging in the PRC. At that time, mitigation measures were largely not known to be in use in the PRC, and there were significant gaps in data and information on cases, hospitalizations, and deaths. Furthermore, the PRC had shared little genomic sequencing data and there were concerns that any new virus variants may have been undetected. Therefore, CDC concluded that the Order was a reasonable and necessary measure in light of the surging cases in the PRC and gaps in information concerning the status of COVID-19 in the PRC.

Current available epidemiologic data through global datasets and modeling results indicate that the COVID-19 surge experienced by the PRC has returned to a baseline level. According to World Health Organization data, daily cases peaked at 7 million cases per day on December 23, 2022, then declined 99% by January 24, 2023, leveling off around 20,000 cases per day from January 24 through February 21, 2023.

In addition, no variants of concern have been identified as emerging from the PRC at this time. According to genomic sequence data available through GISAID,¹ among six PRC-specific lineages identified to date, all were derivatives of the BA.5 lineages that are circulating globally and did not carry additional spike mutations known to cause immune escape beyond those already found in BA.5.

¹ GISAID Initiative, https://gisaid.org.

This data is supported by information from CDC's Traveler-based Genomic Surveillance (TGS) program,² which CDC began expanding in December 2022 and has proven effective in filling gaps in global SARS-CoV-2 variant surveillance. Between December 5, 2022 and February 26, 2023, 5,621 travelers from the PRC and surrounding transit hubs volunteered to participate in TGS. No new COVID-19 sequences were identified among travelers from the PRC to the United States.

² Centers for Disease Control and Prevention, Traveler-Based Genomic Surveillance for Early Detection of New SARS-CoV-2 Variants (last reviewed Feb. 8, 2023). Available at https://wwwnc.cdc.gov/travel/page/travel-genomic-surveillance.

CDC, in coordination with other federal agencies, will continue to monitor travel patterns between the PRC and the United States and adjust its approach as needed based on the latest science, virus variants, and the evolving state of COVID-19. Importantly, CDC continues to recommend that all travelers remain up to date with vaccination against COVID-19 and get tested for current infection with a viral test before and after they travel, and after any known exposure to a person with COVID-19, so they can take appropriate precautions to reduce the risk of transmission while infectious.

Action

Therefore, based on these considerations, I have concluded that the continuation of the Order is not currently necessary.³ There being no operational need to delay implementation of this rescission, it shall take effect immediately for all air passengers with an itinerary that includes the United States that are boarding any aircraft departing from the PRC, including the Special Administrative Regions of Hong Kong and Macau, or any aircraft departing from a Designated Airport if the passenger has been in the PRC within the ten (10) days prior to their departure for the United States.

³ This Rescission Order is not a legislative rule within the meaning of the Administrative Procedure Act (“APA”) but rather a rescission of a previous Order undertaken as an emergency action under the existing authority of 42 U.S.C. 264(a) and 42 CFR 71.20, 71.31(b), which was taken without notice and comment for good cause. In the event that a court determines this rescission qualifies as a legislative rule under the APA, notice and comment and a delay in effective date are not required because the prior Order was established without notice and comment and there is good cause to lift that restriction immediately, given the current judgment that it is unnecessary to prevent the introduction of COVID-19 into the United States and to seek comment prior to the effective date of this notice would be impracticable and contrary to the public interest. 5 U.S.C. 553(b)(3)(B). Further, if this Order qualifies as a major rule under the Congressional Review Act (“CRA”), it is not necessary to delay the effective date for similar reasons of good cause. 5 U.S.C. 808(2).

Effective Date

This Rescission is effective at 3 p.m. EST (8 p.m. GMT) on March 10, 2023.

Dated: March 10, 2023.
Kathryn L. Wolff,
Chief of Staff, Centers for Disease Control and Prevention.

[FR Doc. 2023-05305 Filed 3-10-23; 4:15 pm]

BILLING CODE 4163-18-P